DEPARTMENT OF ENERGY

Federal Energy Regulatory Commission

[Docket No. RP09-8-000]

Tuscarora Gas Transmission Company; Notice Deferring Technical Conference

January 12, 2009.

On January 12, 2009, Tuscarora Gas Transmission Company (Tuscarora) filed a request for deferral of the technical conference scheduled in the above-captioned proceeding for January 15, 2009.¹ Tuscarora states that it has reached a settlement in principle with the active parties in this proceeding, and that it anticipates filing an offer of settlement that will resolve all of the issues in this proceeding by February 12, 2009. Therefore, Tuscarora requests that the Commission defer the date of the technical conference until mid-February 2009, to allow the parties time to prepare and review the offer of settlement. Tuscarora states that it is authorized by the active parties in this proceeding to express their support for this request to defer both the technical conference date and the effective date of the suspended tariff sheets.²

¹ The Commission directed that a technical conference be held to address the issues raised by Tuscarora's October 1, 2008 tariff filing in this proceeding. Tuscarora Gas Transmission Co., 125 FERC ¶ 61,133 (2008). The technical conference was originally scheduled for December 11, 2008. At the request of the active parties, the Commission issued a notice on December 8, 2008, that postponed the date of the technical conference to January 15, 2009.

² Given agreement in principle among the active parties, Tuscarora agrees not to move into effect the tariff sheets previously suspended by the Commission in this proceeding prior to June 1, 2009. This deferral of the effectiveness of the suspended tariff sheets will afford time for a possible settlement to be filed and considered by the Commission.

By this notice, Tuscarora's request for deferral of the dates related to the technical conference is granted. The technical conference scheduled for January 15, 2009, is thereby postponed until further notice.

For further information please contact Timothy Duggan at (202) 502-8326 or e-mail Timothy.Duggan@ferc.gov.

Kimberly D. Bose,
Secretary.

[FR Doc. E9-1017 Filed 1-16-09; 8:45 am]

BILLING CODE 6717-01-P